NATIONAL SCIENCE FOUNDATION

Agency Information Collection Activities: Comment Request

AGENCY: National Science Foundation.

ACTION: Notice and request for comments.

SUMMARY: The National Science Foundation (NSF) has submitted the following information collection requirement to OMB for review and clearance under the Paperwork Reduction Act of 1995, Public Law 104-13. This is the second notice for public comment; the first was published in the Federal Register at 75 FR 8408, and no substantial comments were received. NSF is forwarding the proposed revised submission to the Office of Management and Budget (OMB) for clearance simultaneously with the publication of this second notice. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Office of Information and Regulatory Affairs of OMB, Attention: Desk Officer for National Science Foundation, 725 7th Street, NW., Room 10235, Washington, DC 20503, and to Suzanne H. Plimpton, Reports Clearance Officer, National Science Foundation, 4201 Wilson Boulevard, Suite 295, Arlington, Virginia 22230 or send e-mail to splimpto@nsf.gov. Comments regarding these information collections are best assured of having their full effect if received within 30 days of this notification. Copies of the submission may be obtained by calling 703-292-7556. NSF may not conduct or sponsor a collection of information unless the collection of information displays a currently valid OMB control number and the agency informs potential persons who are to respond to the collection of information that such persons are not required to respond to the collection of information unless it displays a currently valid OMB control number.

SUPPLEMENTARY INFORMATION: Title of Collection: 2010 Survey of Doctorate Recipients.

OMB Approval Number: 3145-0020.

Type of Request: Intent to seek approval to revise an information collection for three years.

1. Abstract

The Survey of Doctorate Recipients (SDR) has been conducted biennially since the 1970s. The 2010 SDR will consist of a sample of individuals under age 76 who have earned a science, engineering or health doctorate from a U.S. university from the NSF's Survey of Earned Doctorate, which is an annual census of U.S. research doctorates. The purpose of this longitudinal study is to provide national estimates on the U.S. educated doctoral science, engineering and health workforce and changes in employment, education and demographic characteristics of that workforce. The study is one of three components of the Scientists and Engineers Statistical Data System (SESTAT), which produces national estimates of the size and characteristics of the nation's science and engineering workforce.

The National Science Foundation Act of 1950, as subsequently amended, includes a statutory charge to “* * * provide a central clearinghouse for the collection, interpretation, and analysis of data on scientific and engineering resources, and to provide a source of information for policy formulation by other agencies of the Federal Government.” The SDR is designed to comply with these mandates by providing information on the supply and utilization of the nation's doctoral scientists and engineers. Collected data will be used to produce estimates of the characteristics of these individuals. They will also provide necessary input into the SESTAT data system, which produces national estimates of the size and characteristics of the country's science and engineering personnel. The Foundation uses this information to prepare congressionally mandated reports such as Women, Minorities and Persons with Disabilities in Science and Engineering and Science and Engineering Indicators. A public release file of collected data, designed to protect respondent confidentiality, will be made available to researchers on CD-ROM and on the World Wide Web.

The National Opinion Research Center (NORC) at the University of Chicago will conduct the study for NSF. Data collection will begin in October 2010 by mail, web survey and computer-assisted telephone interview. The survey will be collected in conformance with the Confidential Information Protection and Statistical Efficiency Act of 2002 and Privacy Act of 1974. The individual's response to the survey is voluntary. NSF will insure that all information collected will be kept strictly confidential and will be used only for research or statistical purposes.

2. Expected Respondents

A statistical sample of approximately 43,500 persons, identified as having a doctorate in a science, engineering or health field from a U.S. university will be contacted. The total response rate in 2008 was 80 percent.

3. Burden on the Public

The amount of time to complete the questionnaire may vary depending on an individual's circumstances; however, on average it will take approximately 25 minutes to complete the survey. Assuming an 80% response rate, NSF estimates that the total burden for the 2010 SDR will be 14,500 hours.

Dated: May 20, 2010.
Suzanne H. Plimpton,
Reports Clearance Officer, National Science Foundation.

[FR Doc. 2010-12531 Filed 5-24-10; 8:45 am]

BILLING CODE 7555-01-P